DEPARTMENT OF COMMERCE

International Trade Administration

[A-570-836]

Glycine From the People's Republic of China: Extension of Time Limit for Preliminary Results of the New Shipper Review

AGENCY: Import Administration, International Trade Administration, Department of Commerce.

ACTION: Notice of extension of time limit for preliminary results of antidumping duty administrative review.

SUMMARY: The Department of Commerce (“the Department”) is extending the time limit for the preliminary results of a new shipper review of glycine from the People's Republic of China (“China”). This review covers one Chinese producer, Nantong Dongchang Chemical Industry Corp. (“Nantong”), for the period March 1, 1999 through August 31, 1999.

EFFECTIVE DATE: May 26, 2000.

FOR FURTHER INFORMATION CONTACT: Maria Dybczak at (202) 482-5811; Office of AD/CVD Enforcement, Group III, Office 9, Import Administration, International Trade Administration, U.S. Department of Commerce, 14th Street and Constitution Avenue, NW, Washington, D.C. 20230.

The Applicable Statute

Unless otherwise indicated, all citations to the statute are references to the provisions effective January 1, 1995, the effective date of the amendments made to the Tariff Act of 1930 (“the Act”) by the Uruguay Round Agreements Act (“URAA”).

Postponement of Preliminary Results

The Department has determined that it is not practicable to issue its preliminary results of the administrative review within the current time limit of June 28, 2000. See Decision Memorandum from Edward C. Yang, Office Director to Joseph A. Spetrini, Deputy Assistant Secretary, Enforcement Group III, May 16, 2000. The Department is extending the time limit for completion of the preliminary results until August 28, 2000 in accordance with Section 751(a)(2)(B)(iv) of the Act.

The deadline for the final results of this review will continue to be 90 days after the signature date of the preliminary results.

Dated: May 16, 2000.
Joseph A. Spetrini,
Deputy Assistant Secretary, Enforcement Group III.

[FR Doc. 00-13321 Filed 5-25-00; 8:45 am]

BILLING CODE 3510-DS-P